NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by January 6, 2017. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2017-033

1. Applicant: Joseph Wilson, Penguin Films Ltd, 1 St Augustine's Lane, Bristol BS1 5DE United Kingdom.

Activity for Which Permit is Requested: Take. The applicant proposes to film killer whales (Orcinus orca) and minke whales (Balaenoptera bonarensis) in McMurdo Sound and the Ross Sea in Antarctica. Filming will be done via helicopter using long-range telephoto lenses and from the sea ice edge via an underwater camera. For the helicopter-based filming, the applicant proposes to fly at altitudes no lower than 600 vertical feet and plans to film the whales at an angle, from the side. The applicant plans to target and potentially disturb up to 60 whales over the course of one season of filming. The applicant has also applied for a commercial or education photography permit from the National Marine Fisheries Service under the authority of the Marine Mammal Protection Act of 1972, as amended (16 U.S.C. 1361 et seq.).

Location: McMurdo Sound and Ross Sea, Antarctica.

Dates: January 1—February 15, 2017.

Nadene G. Kennedy,
Polar Coordination Specialist, Division of Polar Programs.

[FR Doc. 2016-29321 Filed 12-6-16; 8:45 am]

BILLING CODE 7555-01-P